DEPARTMENT OF COMMERCE

International Trade Administration

[A-580-836]

Certain Cut-To-Length Carbon-Quality Steel Plate from the Republic of Korea: Rescission of Antidumping Duty Administrative Review

AGENCY: Import Administration, International Trade Administration, Department of Commerce.

ACTION: Notice of rescission of antidumping duty administrative review.

SUMMARY: On March 22, 2001, the Department of Commerce (the Department) initiated an administrative review of the antidumping duty order on certain cut-to-length carbon-quality steel plate from the Republic of Korea for the period July 29, 1999, through January 31, 2001, pursuant to a request made by Dongkuk Steel Mill Co., Ltd. (DSM) on February 28, 2001 (66 FR 16037, 16038). In accordance with 19 CFR 351.213(d)(1), the Department is rescinding this administrative review because the producer, DSM, has withdrawn its request for an administrative review in a timely manner.

EFFECTIVE DATE: April 20, 2001.

FOR FURTHER INFORMATION CONTACT: Howard Smith or Michele Mire, AD/CVD Enforcement, Office 4, Group II, Import Administration, International Trade Administration, U.S. Department of Commerce, 14th Street and Constitution Avenue, NW., Washington, DC 20230; telephone: (202) 482-5193 or (202) 482-4711, respectively.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to the regulations at 19 CFR Part 351 (2000).

Background

On February 14, 2001, the Department published a notice of opportunity to request an administrative review of the antidumping duty order on certain cut-to-length carbon-quality steel plate from the Republic of Korea (66 FR 10269, 10270). On March 22, 2001, the Department initiated an administrative review for the period July 29, 1999, through January 31, 2001, pursuant to a request made by Dongkuk Steel Mill Co., Ltd. (DSM) on February 28, 2001 (66 FR 16037, 16038). On March 21, 2001, DSM withdrew its request that the Department conduct an administrative review.

Rescission of Review

19 CFR 351.213(d)(1) of the Department's regulations provides that the Secretary may permit a party that requests an administrative review to withdraw the request within 90 days after the date of publication of the notice of initiation of the requested administrative review. The Department is rescinding this review because the requesting party, DSM, has withdrawn its request for an administrative review within the 90 day time limit and no other interested parties have requested a review.

The notice is in accordance with section 777(i)(1) of the Act and 19 CFR 351.213(d)(4).

Dated: April 13, 2001.
Thomas F. Futtner,
Acting Deputy Assistant Secretary for Import Administration.

[FR Doc. 01-9858 Filed 4-19-01; 8:45 am]

BILLING CODE 3510-DS-P